DEPARTMENT OF JUSTICE

Antitrust Division

Notice Pursuant to the National Cooperative Research and Production Act of 1993—Biotransplant, Inc.

Notice is hereby given that, on January 12, 2001, pursuant to Section 6(a) of the National Cooperative Research and Production Act of 1993, 15 U.S.C. 4301 et seq. (“the Act”), Biotransplant, Inc. has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identities of the parties are Immerge BioTherapeutics, Charlestown, MA; and Infigen, Inc., DeForest, WI. The nature and objectives of the venture are to conduct research on the genetic modification of pigs by nuclear transfer technology.

Constance K. Robinson,
Director of Operations, Antitrust Division.

[FR Doc. 01-5061 Filed 3-1-01; 8:45 am]

BILLING CODE 4410-11-M